NATIONAL SCIENCE FOUNDATION

Advisory Panel for Ecological Studies; Notice of Meeting

In accordance with the Federal Advisory Committee Act (Pub. L. 92-463, as amended), the National Science Foundation (NSF) announces the following meeting:

Name: Advisory Panel for Ecological Studies (1751).

Date/Time: April 11-13, 2001, 8 a.m.-5 p.m.

Place: Room 360, National Science Foundation, 4201 Wilson Blvd., Arlington, VA.

Type of Meeting: Part-Open.

Contact Persons: Dr. Kimberly Sullivan, and Dr. Stephen Vessey, Program Directors, Animal Behavior Program, Physiology and Ethology Cluster, Division of Integrative Biology and Neuroscience, Suite 685, National Science Foundation, 4201 Wilson Boulevard, Arlington, VA 22230, Telephone: (703) 292-8421.

Purpose of Meeting: To provide advice and recommendations concerning proposals submitted to the NSF for financial support.

Minutes: May be obtained from the contact person(s) listed above.

Agenda: Open Session: April 13, 2001, 10 a.m. to 11 a.m.—discussion on research trends, opportunities and assessment procedures in Integrative Biology and Neuroscience with Dr. Mary Clutter, Assistant Director, Directorate for Biological Sciences.

Closed Session; April 11, 2001, 8 a.m. to 5 p.m.; April 12, 2001, 8 a.m. to 4 p.m.; April 13, 2001, 8 a.m. to 5 p.m. To review and evaluate research proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 20, 2001.
Susanne Bolton,
Committee Meeting Officer.

[FR Doc. 01-7302 Filed 3-22-01; 8:45 am]

BILLING CODE 7555-01-M